DEPARTMENT OF TRANSPORTATION

Federal Aviation Administration

[FAA-2024-1227]

Agency Information Collection Activities: Requests for Comments; Clearance of a New Approval of Information Collection: FAA Safety Team website (FSTW)

AGENCY: Federal Aviation Administration (FAA), DOT.

ACTION: Notice and request for comments.

SUMMARY: In accordance with the Paperwork Reduction Act of 1995, FAA invites public comments about our intention to request the Office of Management and Budget (OMB) approval for a new information collection. The collection involves creation of accounts, storage of training and awards history, and management of FAA Safety Team (FAASTeam) volunteers. The information to be collected will be used to and/or is necessary because it allows for individual users to complete and track their individual training and awards accomplishments and allows for contact information to be available to users for FAASTeam volunteers.

DATES: Written comments should be submitted by July 23, 2024.

ADDRESSES: Written comments and recommendations for the proposed information collection should be sent within 30 days of publication of this notice to www.reginfo.gov/public/do/PRAMain. Find this particular information collection by selecting “Currently under 60-day Review—Open for Public Comments” or by using the search function.

FOR FURTHER INFORMATION CONTACT: Bradford Wood by email at: Bradford.l.wood@faa.gov; phone: (304) 993-0819.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: FAA Safety Team Website.

Form Numbers:

1. New Account Form—Team Member Application

2. Directory Application—Organization

3. FAA Industry Member Application

4. Application—FAA Training Provider

5. Application—Employer Enrollment

6. Representative Report

7. Directory Application—Individual

8. Course Feedback Form (Survey)

9. New Event Form—Seminar

10. New Event Form—Webinar

11. New Course Form—Internal

12. New Course Form—External

13. New Activity Form

14. Claim Reward—Wings Pins

15. Claim Reward—WIN Individual

16. Claim Reward—WIN CFI

17. Topic Suggestion Form

18. Application Course Provider (New Requirement)

19. Wright Brothers Master Pilot Award Application

20. Charles Taylor Master Mechanic Application.

Type of Review: This is a new collection.

Background: The FAA Safety Team website (FSTW) is provided by the FAA to administer safety program objectives that focus on reducing general aviation accident rates through providing information and training to the general aviation community. FSTW is the information highway and a core resource for the FAA Safety Team (FAASTeam), which uses the site's automation tools to administer The Pilot Proficiency (WINGS) and Aviation Maintenance Technician (AMT) Awards Programs. The FAASTeam also uses the site to send updates and notices to specific or widespread audiences about training opportunities such as courses, seminars, and webinars. The site also offers training courses for UAS certification, renewal, and knowledge training. Volunteers working with the FAA provide most of the training available on FSTW. The FAASTeam collects information from users, volunteers, and FAA personnel necessary to manage the programs outlined in FAA Order 8900.1, Volume 15, FAA Advisory Circular 61-91J and FAA Advisory Circular 65-25F.

Respondents: Who (can also include how many, where, etc.) (add all respondents on each form together).

—The potential respondent universe is certificated and non-certificated airmen. We do not have a total/estimated total because anyone can respond.

Frequency: On occasion.

Estimated Average Burden per Response: Minutes/Hours (add all hours and divide by total number of respondents).

—Estimated Total Annual Burden: $1,458184.2 (Total of hours for all form × $60).

—The average person will spend 5 minutes.

Issued in Washington DC.
Bradford L. Wood,
FAASTeam Outreach Manager, ASI-AW, Automation & Systems Management Group, AFS-950, Safety Analysis and Promotion Division, AFS-900.

[FR Doc. 2024-11776 Filed 5-28-24; 8:45 am]

BILLING CODE 4910-13-P